NATIONAL AERONAUTICS AND SPACE ADMINISTRATION

[Notice (01-027)]

Notice of Prospective Patent License.

AGENCY: National Aeronautics and Space Administration

ACTION: Notice of Prospective Patent License

SUMMARY: NASA hereby gives notice that Light Bullet Networks, Inc. of San Jose, CA, has applied for an exclusive license to practice the inventions disclosed in U.S. Patent Nos. 5,651,079 and 5,963,683 both entitled “Photonic Switching Devices Using Light Bullets,” which are assigned to the United States of America as represented by the Administrator of the National Aeronautics and Space Administration. Written objections to the prospective grant of a license should be sent to the Ames Research Center.

DATES: Responses to this notice must be received by April 23, 2001.

FOR FURTHER INFORMATION CONTACT: Robert Padilla, Patent Counsel, NASA Ames Research Center, Mail Stop 202A-3, Moffett Field, CA 94035-1000, telephone (650) 604-5104.

Dated: February 12, 2001.
Edward A. Frankle,
General Counsel.

[FR Doc. 01-4102 Filed 2-16-01; 8:45 am]

BILLING CODE 7510-01-P